NATIONAL SCIENCE FOUNDATION

Advisory Committee for Biological Sciences; Notice of Meeting

In accordance with the Federal Advisory Committee Act (Pub. L. 92-463, as amended), the National Science Foundation announces the following meeting:

Name: Advisory Committee for Biological Sciences (1110).

Date and Time: April 19, 2007; 8 a.m.-5 p.m.

Place: National Science Foundation, 4201 Wilson Blvd., Arlington, VA 22230, Room 1235.

Type of Meeting: Open.

Contact Person: Dr. Joann Roskoski, Executive Officer, Biological Sciences, Room 605, National Science Foundation, 4201 Wilson Boulevard, Arlington, VA 22230, Tel No.: (703) 292-8400.

Minutes: May be obtained from the contact person listed above.

Purpose of Meeting: The Advisory Committee for BIO provides advice, recommendations, and oversight concerning major program emphases, directions, and goals for the research-related activities of the divisions that make up BIO.

Agenda:

• Budget Update and Implications.

• Systems Biology and Leading Edge Discussions.

• Undergraduate Education in the Biological Sciences.

• Open Discussion.

Dated: March 13, 2007.
Susanne Bolton,
Committee Management Officer.

[FR Doc. E7-4878 Filed 3-16-07; 8:45 am]

BILLING CODE 7555-01-P